DEPARTMENT OF TRANSPORTATION

Federal Aviation Administration

14 CFR Part 39

[Docket No. FAA-2004-18572; Directorate Identifier 2003-NM-72-AD]

RIN 2120-AA64

Airworthiness Directives; McDonnell Douglas Model MD-11 and MD-11F Airplanes

AGENCY: Federal Aviation Administration (FAA), DOT.

ACTION: Notice of proposed rulemaking (NPRM).

SUMMARY: The FAA proposes to adopt a new airworthiness directive (AD) for certain McDonnell Douglas Model MD-11 and MD-11F airplanes. This proposed AD would require replacement of low base terminal boards, related investigative action, and corrective actions if necessary. This proposed AD is prompted by arcing between a power feeder cable and terminal board support bracket. We are proposing this AD to prevent arcing damage to the power feeder cables, terminal boards, and adjacent structure, which could result in smoke and/or fire in the cabin.

DATES: We must receive comments on this proposed AD by August 27, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: room PL-401 on the plaza level of the Nassif Building, 400 Seventh Street SW., Washington, DC, between 9 a.m. and 5 p.m., Monday through Friday, except Federal holidays.

You can get the service information identified in this proposed AD from Boeing Commercial Airplanes, Long Beach Division, 3855 Lakewood Boulevard, Long Beach, California 90846, Attention: Data and Service Management, Dept. C1-L5A (D800-0024)

You may examine the contents of this AD docket on the Internet at http://dms.dot.gov, or at the Docket Management Facility, U.S. Department of Transportation, 400 Seventh Street SW., room PL-401, on the plaza level of the Nassif Building, Washington, DC.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-18572; Directorate Identifier 2003-NM-72-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that website, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You may examine the AD docket in person at the Docket Management Facility office between 9:00 a.m. and 5:00 p.m., Monday through Friday, except Federal holidays. The Docket Management Facility office (telephone (800) 647-5227) is located on the plaza level of the Nassif Building at the DOT street address stated in the ADDRESSES section. Comments will be available in the AD docket shortly after the DMS receives them.

Discussion

As part of our practice of re-examining all aspects of the service experience of a particular aircraft whenever an accident occurs, we have become aware of arcing between a power feeder cable and terminal board support bracket on a McDonnell Douglas Model MD-11 airplane. The cause is power feeder cables stacked improperly during manufacture in conjunction with low base terminal boards. Power feeder cables that are stacked improperly reduce the distance between the cables and mounting structure. This condition, if not corrected, could result in arcing damage to the power feeder cables, terminal boards, and adjacent structure, which could result in smoke and/or fire in the cabin.

Similar Airplanes

The subject area on certain McDonnell Douglas Model MD-11F airplanes are identical to those on the affected McDonnell Douglas Model MD-11 airplanes. Therefore, all of these models may be subject to the same unsafe condition.

Other Related Rulemaking

In conjunction with Boeing and operators of Model MD-11 and MD-11F airplanes, we have reviewed all aspects of the service history of those airplanes to identify potential unsafe conditions and to take appropriate corrective actions. This proposed AD is one of a series of corrective actions identified during that process. We have previously issued several other ADs and may consider further rulemaking actions to address the remaining identified unsafe conditions.

Relevant Service Information

We have reviewed McDonnell Douglas Alert Service Bulletin MD11-24A175, Revision 01, dated April 25, 2003, including Boeing Information Notices MD11-24A175 IN 01, dated November 6, 2003, and MD11-24A175 IN 02, dated December 17, 2003. The service bulletin describes procedures for replacing low base terminal boards with higher base terminal boards, performing a related investigative action (a general visual inspection of the cables, surrounding structure, and other systems components for arcing damage), and performing corrective actions if necessary. The corrective actions include repairing cable assemblies, replacing cable assemblies with new or serviceable cable assemblies, and repairing structural damage. We have determined that accomplishment of the actions specified in the service bulletin will adequately address the unsafe condition.

FAA's Determination and Requirements of the Proposed AD

We have evaluated all pertinent information and identified an unsafe condition that is likely to exist or develop on other airplanes of this same type design. Therefore, we are proposing this AD, which would require accomplishment of the actions specified in the service bulletin described previously, except as discussed under “Differences Between the Proposed AD and Referenced Service Bulletin.”

Differences Between Proposed Rule and Referenced Service Bulletin

Although the service bulletin referenced in the proposed AD specifies to submit certain information to the manufacturer, the proposed AD does not include that requirement. We do not need this information from operators.

Operators should also note that the service bulletin specifies to repair damaged structure in accordance with the structural repair manual (SRM). However, the SRM does not provide procedures for repair of certain structural material. Therefore, this proposed AD would require the repair of damaged structure that is not covered in the SRM to be done in accordance with a method approved by the FAA.

Costs of Compliance

This proposed AD would affect about 52 airplanes of U.S. registry and 152 airplanes worldwide. The following table provides the estimated costs for U.S. operators to comply with this proposed AD.

Estimated Costs
Airplanes identified in the service bulletin as— | Work hours | Average labor rate per hour | Parts cost | Cost per airplane (depending on the airplane configuration)
Group 1 | 3 | $65 | $45-$384 | $240-$579
Groups 2 and 5 | 1 | $65 | $45-$384 | $110-$449
Groups 3, 4, and 6 | 2 | $65 | $45-$384 | $175-$514

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

McDonnell Douglas: Docket No. FAA-2004-18572; Directorate Identifier 2003-NM-72-AD.

Comments Due Date

(a) The Federal Aviation Administration (FAA) must receive comments on this AD action by August 27, 2004.

Affected ADs

(b) None.

Applicability

(c) This AD applies to McDonnell Douglas Model MD-11 and MD-11F airplanes, as listed in McDonnell Douglas Alert Service Bulletin MD11-24A175, Revision 01, dated April 25, 2003; certificated in any category.

Unsafe Condition

(d) This AD was prompted by arcing between a power feeder cable and terminal board support bracket. We are issuing this AD to prevent arcing damage to the power feeder cables, terminal boards, and adjacent structure, which could result in smoke and/or fire in the cabin.

Compliance

(e) You are responsible for having the actions required by this AD performed within the compliance times specified, unless the actions have already been done.

Service Bulletin References

(f) The term “service bulletin,” as used in this AD, means the Accomplishment Instructions of McDonnell Douglas Alert Service Bulletin MD11-24A175, Revision 01, dated April 25, 2003, including Boeing Information Notices MD11-24A175 IN 01, dated November 6, 2003, and MD11-24A175 IN 02, dated December 17, 2003.

Replacement, Related Investigative Action, and Corrective Actions

(g) Within 18 months after the effective date of this AD, replace low base terminal boards with higher base terminal boards in accordance with the applicable figure in the service bulletin, and do all related investigative action/applicable corrective actions by accomplishing all the actions in the service bulletin, except as provided by paragraph (h) of this AD. Any related investigative action/applicable corrective actions must be done before further flight.

(h) If, during the corrective actions required by paragraph (g) of this AD, the type of structural material that has been damaged is not covered in the structural repair manual, before further flight, repair in accordance with a method approved by the Manager, Los Angeles Aircraft Certification Office (ACO), FAA.

Parts Installation

(i) As of the effective date of this AD, no person may install a terminal board, as listed in section 1.A.2. “Spares Affected” of the Planning Information of the service bulletin, on any airplane.

No Reporting

(j) Although the service bulletin referenced in this AD specifies to submit certain information to the manufacturer, this AD does not include that requirement.

Alternative Methods of Compliance (AMOCs)

(k) The Manager, Los Angeles ACO, FAA, has the authority to approve AMOCs for this AD, if requested using the procedures found in 14 CFR 39.19.

Issued in Renton, Washington, on June 30, 2004.
Kalene C. Yanamura,
Acting Manager, Transport Airplane Directorate, Aircraft Certification Service.

[FR Doc. 04-15763 Filed 7-12-04; 8:45 am]

BILLING CODE 4910-13-P